DEPARTMENT OF ENERGY

Federal Energy Regulatory Commission

[Project No. 12636-001]

Mohawk Hydro Corp.; Notice of Preliminary Permit Application Accepted for Filing and Soliciting Comments, Motions To Intervene, and Competing Applications

June 3, 2009.

On May 1, 2009, Mohawk Hydro Corporation filed an application, pursuant to section 4(f) of the Federal Power Act, for a successive preliminary permit to study the feasibility of the Middle Mohawk Hydroelectric Project, to be located on the Mohawk River, in Schenectady and Montgomery Counties, New York.

The proposed Middle Mohawk Hydroelectric Project would be located at existing facilities that are owned by the New York State Canal Corporation. The proposed run-of-river project would consist of the following eight Developments:

Lock #8 Development

(1) An existing 530-foot-long, 14-foot-high bridge type dam constructed primarily of steel, (2) an existing reservoir having a surface area of 336 acres, with a storage capacity of 3,360 acre-feet and a normal water surface elevation of 224 feet USGS, (3) a proposed intake structure, (4) two proposed powerhouses containing 18 generating units having a total installed capacity of 6 MW, (5) a proposed 1,800-foot-long, 34.5 kV transmission line, and (6) appurtenant facilities.

The development would have an annual generation of 16 gigawatt-hours which would be sold to a local utility.

Lock #9 Development:

(1) An existing 530-foot-long, 15-foot-high bridge type dam constructed primarily of steel, (2) an existing reservoir having a surface area of 428 acres, with a storage capacity of 4,280 acre-feet and a normal water surface elevation of 239 feet USGS, (3) a proposed intake structure, (4) two proposed powerhouses containing 18 generating units having a total installed capacity of 6 MW, (5) a proposed 200-foot-long, 13.2 kV transmission line, and (6) appurtenant facilities.

The development would have an annual generation of 17.6 gigawatt-hours which would be sold to a local utility.

Lock #10 Development

(1) An existing 500-foot-long, 15-foot-high bridge type dam constructed primarily of steel, (2) an existing reservoir having a surface area of 414 acres, with a storage capacity of 4,140 acre-feet and a normal water surface elevation of 254 feet USGS, (3) a proposed intake structure, (4) two proposed powerhouses containing 18 generating units having a total installed capacity of 6 MW, (5) a proposed 1,500-foot-long, 115 kV transmission line, and (6) appurtenant facilities.

The development would have an annual generation of 17.3 gigawatt-hours which would be sold to a local utility.

Lock #11 Development

(1) An existing 588-foot-long, 12-foot-high bridge type dam constructed primarily of steel, (2) an existing reservoir having a surface area of 414 acres, with a storage capacity of 4,140 acre-feet and a normal water surface elevation of 266 feet USGS, (3) a proposed intake structure, (4) two proposed powerhouses containing 18 generating units having a total installed capacity of 6 MW, (5) a proposed 700-foot-long, 34.5 kV transmission line, and (6) appurtenant facilities.

The development would have an annual generation of 16.1 gigawatt-hours which would be sold to a local utility.

Lock #12 Development

(1) An existing 460-foot-long, 11-foot-high bridge type dam constructed primarily of steel, (2) an existing reservoir having a surface area of 737 acres, with a storage capacity of 7,370 acre-feet and a normal water surface elevation of 277 feet USGS, (3) a proposed intake structure, (4) two proposed powerhouses containing 18 generating units having a total installed capacity of 6 MW, (5) a proposed 400-foot-long, 13.2 kV transmission line, and (6) appurtenant facilities.

The development would have an annual generation of 11.7 gigawatt-hours which would be sold to a local utility.

Lock #13 Development

(1) An existing 370-foot-long, 8-foot-high bridge type dam constructed primarily of steel, (2) an existing reservoir having a surface area of 464 acres, with a storage capacity of 4,640 acre-feet and a normal water surface elevation of 285 feet USGS, (3) a proposed intake structure, (4) a proposed powerhouse containing 9 generating units having a total installed capacity of 3 MW, (5) a proposed 200-foot-long, 13.2 kV transmission line, and (6) appurtenant facilities.

The development would have an annual generation of 7.3 gigawatt-hours which would be sold to a local utility.

Lock #14 Development

(1) An existing 430-foot-long, 8-foot-high bridge type dam constructed primarily of steel, (2) an existing reservoir having a surface area of 219 acres, with a storage capacity of 2,190 acre-feet and a normal water surface elevation of 293 feet USGS, (3) a proposed intake structure, (4) a proposed powerhouse containing 9 generating units having a total installed capacity of 3 MW, (5) a proposed 200-foot-long, 13.2 kV transmission line, and (6) appurtenant facilities.

The development would have an annual generation of 5.8 gigawatt-hours which would be sold to a local utility.

Lock #15 Development:

(1) An existing 430-foot-long, 8-foot-high bridge type dam constructed primarily of steel, (2) an existing reservoir having a surface area of 578 acres, with a storage capacity of 5,780 acre-feet and a normal water surface elevation of 293 feet USGS, (3) a proposed intake structure, (4) two proposed powerhouses containing 18 generating units having a total installed capacity of 6 MW, (5) a proposed 200-foot-long, 13.2 kV transmission line, and (6) appurtenant facilities.

The development would have an annual generation of 5.8 gigawatt-hours which would be sold to a local utility. The total installed capacity for all eight proposed developments is 41 MW and the total annual generation is 97.6 gigawatt-hours.

Applicant Contact: Mr. James A. Besha, P.E., President of Albany Engineering Corporation, Agent for Mohawk Hydro Corp., 5 Washington Square, Albany, NY 12205, (518) 456-7712.

FERC Contact: John Ramer, (202) 502-8969.

Deadline for filing motions to intervene, competing applications (without notice of intent), or notices of intent to file competing applications: 60 days from the issuance date of this notice. Comments, motions to intervene, notices of intent, and competing applications may be electronically filed via the Internet. See 18 CFR 385.2001(a)(1)(iii) and the instructions on the Commission's Web site under the “e-Filing” link. If unable to be filed electronically, documents may be paper-filed. To paper-file, an original and eight copies should be filed to: Kimberly D. Bose, Secretary, Federal Energy Regulatory Commission, 888 First Street, NE., Washington, DC 20426. For more information on how to submit these types of filings please go to the Commission's Web site located at http://www.ferc.gov/filling-comments.asp. More information about this project can be viewed or printed on the “e-library” link of the Commission's Web site at http://www.ferc.gov/docs-filings/elibrary.asp. Enter the docket number (P-12636-001) in the docket number field to access the document. For assistance, call toll free 1-866-208-3372.

Kimberly D. Bose,
Secretary.

[FR Doc. E9-13545 Filed 6-9-09; 8:45 am]

BILLING CODE 6717-01-P